DEPARTMENT OF ENERGY

Federal Energy Regulatory Commission

[Project No. 6985-009]

Kinneytown Hydro Company, Inc., Connecticut Brownfield Land Bank, Inc.; Notice of Transfer of Exemption

1. By letter filed November 3, 2025, Kinneytown Hydro Company, Inc. and Connecticut Brownfield Land Bank, Inc. informed the Commission that the exemption from licensing for the Kinneytown Hydro Project No. 6985, originally issued May 20, 1983,¹ has been transferred to Connecticut Brownfield Land Bank, Inc. The project is located on the Naugatuck River in Seymour, Connecticut. The transfer of an exemption does not require Commission approval.

¹ Arco Metals Company, 23 FERC ¶ 62,257 (1983). (Order Granting Exemption from Licensing of a Small Hydroelectric Project of 5 Megawatts or Less).

2. Connecticut Brownfield Land Bank, Inc., located at 49 Leavenworth Street, Waterbury, Connecticut 06702 is now the exemptee of Kinneytown Hydro Project No. 6985.

(Authority: 18 CFR 2.1)

Dated: November 25, 2025.
Debbie-Anne A. Reese,
Secretary.

[FR Doc. 2025-21707 Filed 11-28-25; 8:45 am]

BILLING CODE 6717-01-P